ENVIRONMENTAL PROTECTION AGENCY

[FRL-9921-10-OSWER]

Twenty-Seventh Update of the Federal Agency Hazardous Waste Compliance Docket

AGENCY: Environmental Protection Agency.

ACTION: Notice.

SUMMARY: Since 1988, the Environmental Protection Agency (EPA) has maintained a Federal Agency Hazardous Waste Compliance Docket (“Docket”) under Section 120(c) of the Comprehensive Environmental Response, Compensation, and Liability Act (CERCLA). Section 120(c) requires EPA to establish a Docket that contains certain information reported to EPA by Federal facilities that manage hazardous waste or from which a reportable quantity of hazardous substances has been released. As explained further below, the Docket is used to identify Federal facilities that should be evaluated to determine if they pose a threat to public health or welfare and the environment and to provide a mechanism to make this information available to the public.

This notice identifies the Federal facilities not previously listed on the Docket and reported to EPA since the last update of the Docket on January 6, 2014. In addition to the list of additions to the Docket, this notice includes a section with revisions of the previous Docket list. Thus, the revisions in this update include 29 additions and 19 deletions to the Docket since the previous update. At the time of publication of this notice, the new total number of Federal facilities listed on the Docket is 2,392.

DATES: This list is current as of November 25, 2014.

FOR FURTHER INFORMATION CONTACT: Electronic versions of the Docket and more information on its implementation can be obtained at http://www.epa.gov/fedfac/documents/docket.htm by clicking on the link for Update #27 to the Federal Agency Hazardous Waste Compliance Docket or by contacting Ellen Treimel, Federal Agency Hazardous Waste Compliance Docket Coordinator, Federal Facilities Restoration and Reuse Office (Mail Code 5106P), U.S. Environmental Protection Agency, 1200 Pennsylvania Avenue NW., Washington, DC 20460.

SUPPLEMENTARY INFORMATION:

Table of Contents

1.0 Introduction

2.0 Regional Docket Coordinators

3.0 Revisions of the Previous Docket

4.0 Process for Compiling the Updated Docket

5.0 Facilities Not Included

6.0 Facility Status Reporting

7.0 Information Contained on Docket Listing

1.0 Introduction

Section 120(c) of CERCLA, 42 United States Code (U.S.C.) 9620(c), as amended by the Superfund Amendments and Reauthorization Act of 1986 (SARA), requires EPA to establish the Federal Agency Hazardous Waste Compliance Docket. The Docket contains information on Federal facilities that manage hazardous waste and such information is submitted by Federal agencies to EPA under Sections 3005, 3010, and 3016 of the Resource Conservation and Recovery Act (RCRA), 42 U.S.C. 6925, 6930, and 6937. Additionally, the Docket contains information on Federal facilities with a reportable quantity of hazardous substances that has been released and such information is submitted by Federal agencies to EPA under Section 103 of CERCLA, 42 U.S.C. 9603. Specifically, RCRA Section 3005 establishes a permitting system for certain hazardous waste treatment, storage, and disposal (TSD) facilities; RCRA Section 3010 requires waste generators, transporters and TSD facilities to notify EPA of their hazardous waste activities; and RCRA Section 3016 requires Federal agencies to submit biennially to EPA an inventory of their Federal hazardous waste facilities. CERCLA Section 103(a) requires the owner or operator of a vessel or onshore or offshore facility to notify the National Response Center (NRC) of any spill or other release of a hazardous substance that equals or exceeds a reportable quantity (RQ), as defined by CERCLA Section 101. Additionally, CERCLA Section 103(c) requires facilities that have “stored, treated, or disposed of” hazardous wastes and where there is “known, suspected, or likely releases” of hazardous substances to report their activities to EPA.

CERCLA Section 120(d) requires EPA to take steps to assure that a Preliminary Assessment (PA) be completed for those sites identified in the Docket and that the evaluation and listing of sites with a PA be completed within a reasonable time frame. The PA is designed to provide information for EPA to consider when evaluating the site for potential response action or inclusion on the National Priorities List (NPL).

The Docket serves three major purposes: (1) To identify all Federal facilities that must be evaluated to determine whether they pose a risk to human health and the environment sufficient to warrant inclusion on the National Priorities List (NPL); (2) to compile and maintain the information submitted to EPA on such facilities under the provisions listed in Section 120(c) of CERCLA; and (3) to provide a mechanism to make the information available to the public.

The initial list of Federal facilities to be included on the Docket was published in the Federal Register on February 12, 1988 (53 FR 4280). Since then, updates to the Docket have been published on November 16, 1988 (53 FR 46364); December 15, 1989 (54 FR 51472); August 22, 1990 (55 FR 34492); September 27, 1991 (56 FR 49328); December 12, 1991 (56 FR 64898); July 17, 1992 (57 FR 31758); February 5, 1993 (58 FR 7298); November 10, 1993 (58 FR 59790); April 11, 1995 (60 FR 18474); June 27, 1997 (62 FR 34779); November 23, 1998 (63 FR 64806); June 12, 2000 (65 FR 36994); December 29, 2000 (65 FR 83222); October 2, 2001 (66 FR 50185); July 1, 2002 (67 FR 44200); January 2, 2003 (68 FR 107); July 11, 2003 (68 FR 41353); December 15, 2003 (68 FR 69685); July 19, 2004 (69 FR 42989); December 20, 2004 (69 FR 75951); October 25, 2005 (70 FR 61616); August 17, 2007 (72 FR 46218); November 25, 2008 (73 FR 71644); October 13, 2010 (75 FR 62810); November 6, 2012 (77 FR 66609), March 18, 2013 (78 FR 16668), and January 6, 2014 (79 FR 654). This notice constitutes the twenty-seventh update of the Docket.

This notice provides some background information on the Docket. Additional information on the Docket requirements and implementation are found in the Docket Reference Manual, Federal Agency Hazardous Waste Compliance Docket found at http://www.epa.gov/fedfac/documents/docket.htm or obtained by calling the Regional Docket Coordinators listed below. This notice also provides changes to the list of sites included on the Docket in three areas: (1) Additions, (2) Deletions, and (3) Corrections. Specifically, additions are newly identified Federal facilities that have been reported to EPA since the last update and now are included on the Docket; the deletions section lists Federal facilities that EPA is deleting from the Docket; and the corrections section lists changes in the information about the Federal facilities already listed on the Docket.¹ The information submitted to EPA on each Federal facility is maintained in the Docket repository located in the EPA Regional office of the Region in which the Federal facility is located; for a description of the information required under those provisions, see 53 FR 4280 (February 12, 1988). Each repository contains the documents submitted to EPA under the reporting provisions and correspondence relevant to the reporting provisions for each Federal facility.

¹ See Section 3.2 for the criteria for being deleted from the Docket.

In prior updates, information was also provided regarding No Further Remedial Action Planned (NFRAP) status changes. However, information on NFRAP and NPL status is no longer being provided separately in the Docket update as it is now available at: http://www.epa.gov/fedfac/documents/docket.htm or by contacting the EPA HQ Docket Coordinator at the address provided in the FOR FURTHER INFORMATION CONTACT section of this notice.

2.0 Regional Docket Coordinators

Contact the following Docket Coordinators for information on Regional Docket repositories:

Martha Bosworth (HBS), US EPA Region 1, 5 Post Office Square, Suite 100, Mail Code: OSRR07-2, Boston, MA 02109-3912, (617) 918-1407.

Helen Shannon (ERRD), US EPA Region 2, 290 Broadway, New York, NY 10007-1866, (212) 637- 4260 or Alida Karas (ERRD), US EPA Region 2, 290 Broadway, New York, NY 10007- 1866, (212) 637-4276.

Joseph Vitello (3HS12), US EPA Region 3, 1650 Arch Street, Philadelphia, PA 19107, (215) 814-3354.

Dawn Taylor (4SF-SRSEB), US EPA Region 4, 61 Forsyth St. SW., Atlanta, GA 30303, (404) 562-8575.

Michael Chrystof (SR-6J), US EPA Region 5, 77 W. Jackson Blvd., Chicago, IL 60604, (312) 353-3705.

Philip Ofosu (6SF-RA), US EPA Region 6, 1445 Ross Avenue, Dallas, TX 75202-2733, (214) 665-3178.

Paul Roemerman (SUPRERSP), US EPA Region 7, 11201 Renner Blvd., Lenexa, KS 66219, (913) 551-7694

Ryan Dunham (EPR-F), US EPA Region 8, 1595 Wynkoop Street, Denver, CO 80202, (303) 312-6627.

Leslie Ramirez (SFD-6-1), US EPA Region 9, 75 Hawthorne Street, San Francisco, CA 94105, (415) 972-3978.

Monica Lindeman (ECL, ABU), US EPA Region 10, 1200 Sixth Avenue, Suite 900, ECL-112, Seattle, WA 98101, (206) 553-5113 or Ken Marcy (ECL, ABU), US EPA Region 10, 1200 Sixth Avenue, Suite 900, ECL-112, Seattle, WA 98101, (206) 890-0591.

3.0 Revisions of the Previous Docket

This section includes a discussion of the additions, deletions, and corrections to the list of Docket facilities since the previous Docket update.

3.1 Additions

In this notice, 29 Federal facilities are being added to the Docket, primarily because of new information obtained by EPA (for example, recent reporting of a facility pursuant to RCRA Sections 3005, 3010, or 3016 or CERCLA Section 103). CERCLA Section 120, as amended by the Defense Authorization Act of 1997, specifies that EPA take steps to assure that a Preliminary Assessment (PA) be completed within a reasonable time frame for those Federal facilities that are included on the Docket. Among other things, the PA is designed to provide information for EPA to consider when evaluating the site for potential response action or listing on the NPL.

3.2 Deletions

In this notice, 19 Federal facilities are being deleted from the Docket. There are no statutory or regulatory provisions that address deletion of a facility from the Docket. However, if a facility is incorrectly included on the Docket, it may be deleted from the Docket. The criteria EPA uses in deleting sites from the Docket include: A facility for which there was an incorrect report submitted for hazardous waste activity under RCRA (e.g., 40 CFR 262.44); a facility that was not Federally-owned or operated at the time of the listing; a facility included more than once (i.e., redundant listings); or when multiple facilities are combined under one listing. (See Docket Codes (Categories for Deletion of Facilities)) for a more refined list of the criteria EPA uses for deleting sites from the Docket. Facilities being deleted no longer will be subject to the requirements of CERCLA Section 120(d).

3.3 Corrections

Changes necessary to correct the previous Docket are identified by both EPA and Federal agencies. The corrections section may include changes in addresses or spelling, and corrections of the recorded name and ownership of a Federal facility. In addition, changes in the names of Federal facilities may be made to establish consistency in the Docket or between the Comprehensive Environmental Response, Compensation, and Liability Information System (CERCLIS) and the Docket. For the Federal facility for which a correction is entered, the original entry (designated by an “o”), as it appeared in previous Docket updates, is shown directly below the corrected entry (designated by a “c”) for easy comparison. This notice does not include any corrections.

4.0 Process for Compiling the Updated Docket

In compiling the newly reported Federal facilities for the update being published in this notice, EPA extracted the names, addresses, and identification numbers of facilities from four EPA databases—the Emergency Response Notification System (ERNS), the Biennial Inventory of Federal Agency Hazardous Waste Activities, the Resource Conservation and Recovery Information System (RCRAInfo), and CERCLIS—that contain information about Federal facilities submitted under the four provisions listed in CERCLA Section 120(c).

EPA assures the quality of the information on the Docket by conducting extensive evaluation of the current Docket list with the information obtained from the databases identified above to determine which Federal facilities were, in fact, newly reported and qualified for inclusion on the update. EPA is also striving to correct errors for Federal facilities that were previously reported. For example, state-owned or privately-owned facilities that are not operated by the Federal government may have been included. Such problems are sometimes caused by procedures historically used to report and track Federal facilities data. Representatives of Federal agencies are asked to write to the EPA HQ Docket Coordinator at the address provided in the FOR FURTHER INFORMATION CONTACT section of this notice if revisions of this update information are necessary.

5.0 Facilities Not Included

Certain categories of facilities may not be included on the Docket, such as: (1) Federal facilities formerly owned by a Federal agency that at the time of consideration was not Federally-owned or operated; (2) Federal facilities that are small quantity generators (SQGs) that have never generated more than 1,000 kg of hazardous waste in any month; (3) Federal facilities that are solely hazardous waste transportation facilities, as reported under RCRA Section 3010; and (4) Federal facilities that have mixed mine or mill site ownership.

An EPA policy issued in June 2003 provided guidance for a site-by-site evaluation as to whether “mixed ownership” mine or mill sites, typically created as a result of activities conducted pursuant to the General Mining Law of 1872 and never reported under Section 103(a), should be included on the Docket. For purposes of that policy, mixed ownership mine or mill sites are those located partially on private land and partially on public land. This policy is found at http://www.epa.gov/fedfac/pdf/mixownrshpmine.pdf. The policy for not including these facilities may change; facilities now not included may be added at some point if EPA determines that they should be included.

6.0 Facility NPL Status Reporting, Including NFRAP Status

EPA typically tracks the NPL status of Federal facilities listed on the Docket. An updated list of the NPL status of all Docket facilities, as well as their NFRAP status, is available at http://www.epa.gov/fedfac/documents/docket.htm or by contacting the EPA HQ Docket Coordinator at the address provided in the FOR FURTHER INFORMATION CONTACT section of this notice. In prior updates, information regarding NFRAP status changes was provided separately.

7.0 Information Contained on Docket Listing

The updated information is provided in three tables. The first table is a list of new Federal facilities that are being added to the Docket; the second table is a list of Federal facilities that are being deleted from the Docket and the third table contains corrections of information included on the Docket.

The Federal facilities listed in each table are organized by state and then grouped alphabetically within each state by the Federal agency responsible for the facility. Under each state heading is listed the name and address of the facility, the Federal agency responsible for the facility, the statutory provision(s) under which the facility was reported to EPA, and a code.² The code key precedes the lists.

² Each Federal facility listed in the update has been assigned a code that indicates a specific reason for the addition or deletion. The code precedes this list.

The statutory provisions under which a Federal facility is reported are listed in a column titled “Reporting Mechanism.” Applicable mechanisms are listed for each Federal facility: For example, Sections 3005, 3010, 3016, 103(c), or Other. “Other” has been added as a reporting mechanism to indicate those Federal facilities that otherwise have been identified to have releases or threat of releases of hazardous substances. The National Contingency Plan 40 CFR 300.405 addresses discovery or notification, outlines what constitutes discovery of a hazardous substance release, and states that a release may be discovered in several ways, including: (1) A report submitted in accordance with Section 103(a) of CERCLA, i.e., reportable quantities codified at 40 CFR part 302; (2) a report submitted to EPA in accordance with Section 103(c) of CERCLA; (3) investigation by government authorities conducted in accordance with Section 104(e) of CERCLA or other statutory authority; (4) notification of a release by a Federal or state permit holder when required by its permit; (5) inventory or survey efforts or random or incidental observation reported by government agencies or the public; (6) submission of a citizen petition to EPA or the appropriate Federal facility requesting a preliminary assessment, in accordance with Section 105(d) of CERCLA; (7) a report submitted in accordance with Section 311(b)(5) of the Clean Water Act; and (8) other sources. As a policy matter, EPA generally believes it is appropriate for Federal facilities identified through the CERCLA discovery and notification process to be included on the Docket.

The complete list of Federal facilities that now make up the Docket and the NPL and NFRAP status are available to interested parties and can be obtained at http://www.epa.gov/fedfac/documents/docket.htm by clicking on the link for Federal Agency Hazardous Waste Compliance Docket Update #27 or by contacting the EPA HQ Docket Coordinator at the address provided in the FOR FURTHER INFORMATION CONTACT section of this notice. As of the date of this notice, the total number of Federal facilities that appear on the Docket is 2,392.

Dated: December 10, 2014.
Charlotte Bertrand,
Acting Director, Federal Facilities Restoration and Reuse Office, Office of Solid Waste and Emergency Response.

Docket Codes

Categories for Deletion of Facilities

(1) Small-Quantity Generator.

(2) Never Federally Owned and/or Operated.

(3) Formerly Federally Owned and/or Operated but not at time of listing.

(4) No Hazardous Waste Generated.

(5) (This code is no longer used.)

(6) Redundant Listing/Site on Facility.

(7) Combining Sites Into One Facility/Entries Combined.

(8) Does Not Fit Facility Definition.

Categories for Addition of Facilities

(15) Small-Quantity Generator with either a RCRA 3016 or CERCLA 103 Reporting Mechanism.

(16) One Entry Being Split Into Two (or more)/Federal Agency Responsibility Being Split.

(17) New Information Obtained Showing That Facility Should Be Included.

(18) Facility Was a Site on a Facility That Was Disbanded; Now a Separate Facility.

(19) Sites Were Combined Into One Facility.

(19A) New Currently Federally Owned and/or Operated Facility Site.

Categories for Corrections of Information About Facilities

(20) Reporting Provisions Change.

(20A) Typo Correction/Name Change/Address Change.

(21) Changing Responsible Federal Agency. (If applicable, new responsible Federal agency submits proof of previously performed PA, which is subject to approval by EPA.)

(22) Changing Responsible Federal Agency and Facility Name. (If applicable, new responsible Federal Agency submits proof of previously performed PA, which is subject to approval by EPA.)

(24) Reporting Mechanism Determined To Be Not Applicable After Review of Regional Files.

Federal Agency Hazardous Waste Compliance Docket Update #27—Additions
Facility name | Address | City | State | Zip code | Agency | Reporting mechanism | Code
USARMY Fort Pierce Biorka Island | 15 mi SW of Sitka on Biorka Island, approx (Island Centroid): +56.851328° N −135.558078° W, +56° 51′ 4.7808″ N −135° 33′ 29.0802″ W, T58S R63E, SW of Baranof Island | Sitka | AK | 99835 | U.S. Army | Other | 19A
USDHS CG Fort Pierce former USNAVY Site Biorka Island | 15 mi SW of Sitka on Biorka Island, approx (Island Centroid):+56° 51′ 4.7808″ N, −135° 33′ 29.0802″ W, +56.851328 N −135.558078 W, T58S R63E, SW of Baranof Island | Sitka | AK | 99835 | Dept of Homeland Security | Other | 19A
USDHS CGPort Higgins Radio Station | 14700 N Tongass Hwy, approx. 13 mi N of Ketchikan,+55° 28′ 16.6902″ N, −131.47′ 24.8886″ W; +55.471303, −131.790247; T74S R90E Sec 7, Copper River Meridian | Ketchikan | AK | 99901 | Dept of Homeland Security |  | 19A
USDOT FAA Sunset Cove | Mouth of Libby Creek, S of Sunset Cove in Stephens Passage, approx. 4 mi NNE of Hobart Bay, approx. 30 mi E of Angoon, +57° 28′ 58.566″ N, −133° 31′ 28.566″ W; T51S R74E Sec 3, Copper River Meridian | Angoon | AK | 99820 | Dept of Transportation | 3010 | 19A
BIA Chinle Boarding School | HWY 191 15 MI N of Chinle | Many Farms | AZ | 86538 | Dept of Interior | 3010 | 17
BR—Redding | Shasta Office CVP | Redding | CA | 96003 | Dept of Interior | 3010 | 17
Onizuka Air Force Station | 6594 ABS/CC | Sunnyvale | CA | 94088 | U.S. Air Force | 3010, 103c | 17
Southern California Aviation | 18438 Readiness Street | Victorville | CA | 92394 | U.S. Air Force | 3010 | 19A
Space Launch Complex 4 East | 747 Nebraska Ave | Vandenberg AFB | CA | 93437 | U.S. Air Force | 3010 | 19A
US Border Patrol San Diego Firing Range | 2301 McCain Road | San Diego | CA | 92101 | Dept of Homeland Security | 3010 | 19A
US DOT Maritime Suisun Bay Reserve Fleet | 2595 Lake Herman Road | Benidia | CA | 94510 | Dept of Transportation | 3010 | 19A
Herbert C. Hoover Building (AKA: Main Commerce) | 1401 Constitution Ave. NW., Room 7603 | Washington | DC | 20230 | Dept of Commerce | 3010 | 19A
USMC Support Facility—Blount Island | 5880 Channel View Dr | Jacksonville | FL | 32226 | U.S. Navy | 3010 | 19A
US Postal Service Bacon Station | Stratford Dr | Bloomingdale | IL | 60117-7000 | U.S. Postal Service | 3010 | 19A
US Postal Service Vehicle Maintenance Facility | Stratford Dr | Bloomingdale | IL | 60117-7000 | U.S. Postal Service | 3010 | 19A
Soldier Support Center | Building #28, Marion County | Fort Benjamin Harrison | IN | 46216 | U.S. Army | 3005, 3010, 3016, 103c | 17
Louisville Veterans Affairs Medical Center | 800 Zorn Avenue | Louisville | KY | 40202 | Dept of Veterans Affairs | 3010 | 19A
FLETC—Department of Homeland Security | 9000 Commo Road | Cheltenham | MD | 20623 | Dept of Homeland Security | 3010 | 19A
National Park SVC/DE Water Gap | Pioneer Trail | Pahaquarry | NJ | 7825 | Dept of Interior | 3010 | 19A
Catron County Shooting Range | PO Box 170 | Reserve | NM | 87830 | Dept of Agriculture | 3010 | 19A
Southwest Polytechnic Institute | 9169 Coors Rd NW | Albuquerque | NM | 87196 | Dept of Interior | 3010 | 17
Glenmont Job Corps Center | 822 River Road | Glenmont | NY | 12077-0993 | Dept of Labor | 3010, 103c | 17
USACE—Portugues Dam | PR Road 10 km 5.5 | Ponce | PR | 731 | U.S. Army Corps of Engineers | 3010 | 19A
Air Force Plant No. 4 | PO Box 748 | Fort Worth | TX | 76101 | U.S. Air Force | 3010 | 19A
Transportation Security Administration | 510 Airline Dr | Coppell | TX | 75019 | Transportation and Security Administration | 3010 | 19A
Utah Test and Training Range | 6.5 Mi SE of Wendover | Wendover | UT | 84056 | U.S. Air Force | 3016 | 17
BR—Benton City Site | 39307 W Kelly Rd | Benton City | WA | 99320 | Dept of Interior | 3010 | 17
BR—Chandler Power & Pumping Plant | Old Inland Empire Hwy | Benton City | WA | 99320 | Dept of Interior | 103c | 17
VA Medical Center | 1540 Spring Valley Drive | Huntington | WV | 25704 | Dept of Veterans Affairs | 3010 | 19A

Federal Agency Hazardous Waste Compliance Docket Update #27—Deletions
Facility name | Address | City | State | Zip code | Agency | Reporting mechanism | Code
BLM Rangely Landfill | T1N R101 W Sec 6, 6THPM | Rangely | CO | 81648 | Dept of Interior | 103 | 6
Orlando Defense Property Disposal Office | Naval Training Center | Orlando | FL | 32813 | U.S. Navy | 3010 | 6
Rock Island District, Lock and Dam 12 |  | Hanover Township | IL | 61041 | U.S. Army Corps of Engineers | 3016 | 8
Naval Communication Unit Washington | Dangerfield & Commo Road | Clinton | MD | 20735 | U.S. Navy | 103a, 103c, 3010 | 6
MSNG Army Aviation (AVCRAD) | Hanger 1, Hewes Avenue | Gulfport | MS | 39507 | U.S. Army | 3010 | 1
River Operations Dry Dock (CELMK-OD-R) | COE Supply Base—Vicksburg Harbor | Vicksburg | MS | 39180 | U.S. Army Corps of Engineers | 3016 | 6
Lock Haven Area Maintenance Support Activity—112G | RT 220 McElhattan | Lock Haven | PA | 17745 | U.S. Army | 3010 | 4
Reading Army Maintenance Support Activity—29 | 547 Philadelphia Ave | Reading | PA | 19607 | U.S. Army | 3010 | 1
Beaufort Naval Hospital | SC Highway 280 | Beaufort | SC | 29902 | U.S. Navy | 3010 | 6
Charleston Naval Weapons Station South Annex | 1050 Remount Road | North Charleston | SC | 29408 | U.S. Navy | 103c, 3010 | 6
Chattanooga Central Laboratories | N Access Rd at TN HWY 153 | Chattanooga | TN | 37401 | Tennessee Valley Authority | 3010 | 1
Jackson Power Stores | Airways Blvd | Jackson | TN | 38301 | Tennessee Valley Authority | 3010 | 4
Knoxville Power Stores | 4124 Greenway Drive | Knoxville | TN | 37902 | Tennessee Valley Authority | 3010 | 4
Nashville Power Stores | 1324 Elm Hill Pike | Nashville | TN | 37210 | Tennessee Valley Authority | 3010 | 4
Phipps Bend Substation | US HWY 11 W | Surgoinsville | TN | 37873 | Tennessee Valley Authority | 3010 | 4
Norfolk Postal Service | 600 Church St | Norfolk | VA | 23501 | U.S. Postal Service | 3010 | 1
Richmond Army National Guard | 501 E Franklin St | Richmond | VA | 23219 | U.S. Army | 3010 | 4
Strategic Systems Program Office | 1931 Jefferson Davis Highway, CM #3 | Arlington | VA | 22202 |  | 3010 | 8
West Virginia Army National Guard | RT 62 N | Point Pleasant | WV | 25550 | U.S. Army | 103a | 2

[FR Doc. 2014-30687 Filed 12-30-14; 8:45 am]

BILLING CODE 6560-50-P